DEPARTMENT OF HOMELAND SECURITY

Coast Guard

[Docket No. USCG-2011-1114]

Merchant Mariner Medical Advisory Committee; Vacancy

AGENCY: Coast Guard, DHS.

ACTION: Request for applications.

SUMMARY: The Coast Guard seeks applications for membership on the Merchant Mariner Medical Advisory Committee. This Committee provides advice to the Coast Guard on matters related to medical certification determinations for issuance of merchant mariner credentials; medical standards and guidelines for the physical qualifications of operators of commercial vessels; medical examiner education; and medical research.

DATES: Applicants must send a cover letter describing their interest, reasons for application, and qualifications, and should enclose a complete professional biography or resume to LT Dylan McCall, the Alternate Designated Federal Officer (ADFO), on or before January 20, 2012.

ADDRESSES: Applicants must send their cover letter and resume to the following address: USCG Headquarters, CG-543 Office of Vessel Activities, 2100 2nd St. SW., Washington, DC 20593; or by faxing (202) 372-1128; or by emailing to Dylan.k.mccall@uscg.mil.

FOR FURTHER INFORMATION CONTACT: Lieutenant Dylan McCall, ADFO of MMMAC at telephone (202) 372-1128 or email Dylan.k.mccall@uscg.mil.

SUPPLEMENTARY INFORMATION: The Merchant Mariner Medical Advisory Committee (MMMAC) is an advisory committee chartered under the Federal Advisory Committee Act, 5 U.S.C. App. (Pub. L. 92-463). The MMMAC is authorized by section 210 of the Coast Guard Authorization Act of 2010 (Pub. L. 111-281) and the Committee's purpose is to advise the Secretary on matters related to medical certification determinations for issuance of merchant mariner credentials; medical standards and guidelines for the physical qualifications of operators of commercial vessels; medical examiner education; and medical research.

The Committee is expected to meet at least twice a year at various locations around the country. It may also meet for additional purposes. Working groups may also meet to consider specific problems.

We will consider applications for one position.

We are seeking one member who represents the professional mariners with knowledge and experience in mariners' occupational requirements.

The member appointed will serve a term of office of 2 years. The member may be considered to serve consecutive terms. All members serve without compensation from the Federal Government; however members may be reimbursed for travel and per diem.

Members of MMMAC will be appointed and serve as Special Government Employees (SGEs) as defined in section 202(a) of title 18 United States Code. As candidates for appointment as SGEs, applicants are required to complete Confidential Financial Disclosure Reports (OGE Form 450). The Coast Guard may not release the reports or information in them to the public except under an order issued by the Federal court or otherwise provided under the Privacy Act (5 U.S.C. 552(a)). Applicants can obtain this form by going to the Web site of the Office of Government Ethics (http://www.oge.gov), or by contacting the ADFO. Applications which are not accompanied by a completed OGE Form 450 will not be considered.

Registered lobbyists are not eligible to serve on federal advisory committees. Registered lobbyists are lobbyists required to comply with provisions contained in the Lobbying Disclosure Act of 1995 (Pub. L. 104-65 as amended).

In support of the Coast Guard policy on gender and ethnic nondiscrimination, we encourage qualified men and women of all racial and ethnic groups to apply. The Coast Guard values diversity; all different characteristics and attributes of persons that enhance the mission of the Coast Guard.

If you are interested in applying to become a member of the Committee, send your cover letter and resume to the following address: Lieutenant Dylan McCall, ADFO of MMMAC at Commandant (CG-543), ATTN: MMMAC, U.S. Coast Guard, 2100 2nd St. SW., STOP 7581, Washington, DC 20593-7581; or by faxing (202) 372-1128; or by emailing to Dylan.k.mccall@uscg.mil.

This notice is available in our online docket, USCG-2011-1114, at http://www.regulations.gov by inserting USCG-2011-1114 in the “Keyword” box, and then clicking “Search”. Please do not post your resume on this site.

Dated: December 7, 2011.
P.F. Thomas,
Captain, U.S. Coast Guard, Acting Director, Prevention Policy.

[FR Doc. 2011-31869 Filed 12-12-11; 8:45 am]

BILLING CODE 9110-04-P